DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed extension of the eastbound truck climbing lane on Interstate 10 in the Counties of San Bernardino and Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 29, 2021. If the Federal law that authorizes judicial review of a claim provides a time period of less than 150 days for filing such claim, then that shorter time period applies.

FOR FURTHER INFORMATION CONTACT: For Caltrans: Antonia Toledo, Senior Environmental Planner, Environmental Studies D, California Department of Transportation—District 8, 464 West 4th Street, MS-820, San Bernardino, CA 9240. Office Hours: 8:00 a.m.-5:00 p.m., Pacific Standard Time, telephone (909) 501-5741 or email Antonia.Toldeo@dot.ca.gov. For FHWA, contact David Tedrick of FHWA at (916) 498-5024 or email David.Tedrick@dot.gov.

SUPPLEMENTARY INFORMATION: Effective July I, 2007, FHWA assigned, and Caltrans assumed, environmental responsibilities for this project pursuant to 23 U.S.C. 327. Notice is hereby given that the Caltrans has taken final agency actions subject to 23 U.S.C. 139(l)(1) by issuing licenses, permits, and approvals for the following highway project in the State of California: Caltrans proposes to extend the eastbound (EB) truck climbing lane (TCL) on Interstate 10 (I-10) from its current terminus, at the existing EB off-ramp to the Live Oak interchange, to east of the County Line Road EB off-ramp, at the San Bernardino County and Riverside County line. I-10 serves as the major east/west urban corridor and commuter route between Los Angeles and San Bernardino and Riverside Counties. Rural areas in eastern Riverside County are connected to the urban centers to the west via the I-10. The actions by the Federal agencies, and the laws under which such actions were taken, are described in the Final Environmental Assessment (FEA)/Finding of No Significant Impact (FONSI) for the project, issued November 10, 2020, and in other documents in Caltrans' project records. The FEA, FONSI, and other project records are available by contacting Caltrans at the addresses provided above. The Caltrans FEA, FONSI, and other project records can be viewed and downloaded from the project website at https://www.gosbcta.com/project/i-10-truck-climbing-lane/. This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C. 109

4. MAP-21, the Moving Ahead for Progress in the 21st Century Act (Pub. L. 112-141)

5. Clean Air Act Amendments of 1990 (CAAA)

6. Clean Water Act of 1977 and 1987

7. Federal Water Pollution Control Act of 1972 (see Clean Water Act of 1977 & 1987)

8. Federal Land Policy and Management Act of 1976 (Paleontological Resources)

9. Noise Control Act of 1972

10. Endangered Species Act of 1973

11. Executive Order 11990, Protection of Wetlands

12. Executive Order 13112, Invasive Species

13. Executive Order 13186, Migratory Birds

14. Fish and Wildlife Coordination Act of 1934, as amended

15. Migratory Bird Treaty Act

16. Executive Order 11988, Floodplain Management

17. Executive Order 12898, Federal Actions to Address Environmental Justice and Low-income Populations

(Catalog of Federal Domestic Assistance Program Number 20.205, Highway Planning and Construction. The regulations implementing Executive Order 12372 regarding intergovernmental consultation on Federal programs and activities apply to this program.)

(Authority: 23 U.S.C. 139(l)(1))

Issued on: February 23, 2021.
Rodney Whitfield,
Director, Financial Services, Federal Highway Administration, California Division.

[FR Doc. 2021-04099 Filed 2-26-21; 8:45 am]

BILLING CODE 4910-RY-P